COMMITTEE FOR PURCHASE FROM PEOPLE WHO ARE BLIND OR SEVERELY DISABLED

Procurement List; Additions and Deletions

AGENCY: Committee for Purchase From People Who Are Blind or Severely Disabled.

ACTION: Additions to and Deletions from Procurement List.

SUMMARY: This action adds to the Procurement List products and services to be furnished by nonprofit agencies employing persons who are blind or have other severe disabilities, and deletes from the Procurement List products and services previously furnished by such agencies.

DATES: Effective Date: August 17, 2009.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 5/1/2009 and 5/22/2009, the Committee for Purchase From People Who Are Blind or Severely Disabled published notices (74 FR 20289-20291 and 74 FR 23999-24000, respectively) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives, which would accomplish the objectives of the Javits-Wagner-O'Day Act (41 U.S.C. 46-48c) in connection with the products and services proposed for addition to the Procurement List.

End of Certification

Accordingly, the following products and services are added to the Procurement List:

Products: Advanced Combat Shirt

NSN: 8415-01-548-7187.

NSN: 8415-01-548-7201.

NSN: 8415-01-548-7206.

NSN: 8415-01-548-7209.

NSN: 8415-01-548-7215.

NSN: 8415-01-548-7232.

NSN: 8415-01-548-7236.

NPAs: Winston-Salem Industries for the Blind, Winston-Salem, NC; San Antonio Lighthouse for the Blind, San Antonio, TX.

Contracting Activity: Dept. of the Army, XR W2DF RDECOM ACQ CTR NATICK, MA.

Coverage: C-List for 25% of the requirements of Research, Development and Engineering Command (RDECOM), Natick, MA.

NSN: 7530-01-346-4849—Pad, Writing Paper (Yellow 3x5 Note).

NSN: 7530-01-425-4088—Pad, Writing Paper (4x5 Phone Message).

NPA: Assoc. f/t Blind & Visually Impaired & Goodwill Ind. of Greater Rochester, Rochester, NY.

Contracting Activity: Federal Acquisition Service, GSA/FSS OFC SUP CTR—Paper Products, New York, NY.

Coverage: A-List for the total Government requirement as aggregated by the General Services Administration.

NSN: 7530-01-033-8891—Paper, Copying, Xerographic Process.

NPA: Louisiana Association for the Blind, Shreveport, LA.

Contracting Activity: Federal Acquisition Service, GSA/FSS OFC SUP Ctr—Paper Products, New York, NY.

Coverage: A-List for the total Government requirement as aggregated by the General Services Administration.

Services

Service Type/Location: Food Service Attendant, Rickenbacker Reserve, Redtail Building Reserve Base, 7370 Minuteman Way, Columbus, OH.

NPA: Goodwill Columbus Outsource Solutions, Columbus, OH.

Contracting Activity: Dept. of the Army, XRAW7NU USPFO Activity OH ARNG, Columbus, OH.

Service Type/Location: Base Supply Center/Individual Equipment Element/Hazmat, (BSC/IEE/HAZMAT) Forbes Field, KS, ISPFO for Kansas, 2737 S. Kansas Avenue, Topeka, KS.

NPA: Industries for the Blind, Inc., West Allis, WI.

Contracting Activity: DOD/Department of the Air Force, Kirtland AFB, NM.

Service Type/Location: Custodial Services, Ellington Field, 14555 Scholl Street, Houston, TX.

NPA: On Our Own Services, Inc., Houston, TX.

Contracting Activity: Dept. of the Army, XR W6BB ACA Presidio of Monterey, CA.

Service Type/Location: Recycling Services, Martinsburg Computing Center, 250 Murall Drive, Kearneysville, WV.

NPA: NW Works, Inc., Winchester, VA.

Contracting Activity: Internal Revenue Service, Dept. of Treasury, IRS, Office of Procurement Operations, Oxon Hill, MD.

Deletions

On 5/22/2009, the Committee for Purchase From People Who Are Blind or Severely Disabled published notice (74 FR 23999-24000), of proposed deletions from the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives, which would accomplish the objectives of the Javits-Wagner-O'Day Act (41 U.S.C. 46-48c) in connection with the products deleted from the Procurement List.

End of Certification

Accordingly, the following products are deleted from the Procurement List:

Products

NSN: 7520-01-484-5262—Pen, Retractable, Transparent, Cushion Grip “VISTA”.

NPA: Industries of the Blind, Inc., Greensboro, NC.

Contracting Activity: GSA/FSS OFC SUP Ctr—Paper Products, New York, NY.

NSN: 7520-01-445-0734—File, Horizontal Desk.

NSN: 7520-01-445-0737—File, Horizontal Desk.

NSN: 7520-01-445-0738—File, Horizontal Desk.

NSN: 7520-01-445-0740—File, Horizontal Desk.

NSN: 7520-01-445-0742—File, Horizontal Desk.

NSN: 7520-01-452-1559—File, Horizontal Desk.

NPA: Occupational Development Center, Inc., Thief River Falls, MN.

Contracting Activity: GSA/FSS OFC SUP Ctr—Paper Products, New York, NY.

NSN: 7520-01-483-8987—Presentation Sheets, “SmartChart Economy”.

NSN: 7520-01-483-8976—Presentation Sheets, “SmartChart”, Refill Roll.

NPA: The Lighthouse for the Blind, Inc. (Seattle Lighthouse), Seattle, WA.

Contracting Activity: GSA/FSS OFC SUP Ctr—Paper Products, New York, NY.

Barry S. Lineback,
Director, Business Operations.

[FR Doc. E9-17020 Filed 7-16-09; 8:45 am]

BILLING CODE 6353-01-P